Title 3—

The President

Proclamation 7655 of March 24, 2003

Cancer Control Month, 2003

By the President of the United States of America

A Proclamation

Millions of Americans are winning the fight against cancer, but much work remains. More than 3,500 Americans are diagnosed with cancer each day, and more than 45,000 will die from the disease this month. Yet, experts believe that half of all cancer deaths are preventable. With exercise, nutrition, and healthy behavior, we can help prevent this deadly disease and save lives. During Cancer Control Month, we renew our commitment to over coming cancer by learning more about its prevention and early detection.

To protect against disease, Americans can make smart choices that will lead to longer, healthier lives. A critical step that Americans can take to improve their health and reduce the risk of cancer is to avoid the use of tobacco. Also, avoiding excessive drinking and sun exposure can help guard against cancer and help ensure better health.

Improvements in diet and fitness can help prevent many serious health problems. A diet rich in fruits and vegetables and regular physical activity help protect us from illness and can add years to our lives. Research suggests that we can decrease the number of cancer deaths in America by one-third simply by changing our diets and getting more exercise.

Preventative health screening is vital to early detection and treatment of cancer. Regular screening can save lives and enhances the well-being of our Nation. Screening can detect many forms of cancer at earlier, less dangerous stages, allowing patients to seek treatment and defeat the cancer before it spreads. I urge all Americans to talk to their doctors about when to start preventative screening and how often to schedule appointments.

Our Nation's investment in cancer prevention and research is making a difference, and recent medical discoveries offer hope to many Americans. The National Cancer Institute (NCI) is currently sponsoring more than 60 clinical trials on cancer prevention and screening. One major clinical trial for men and women at risk for lung cancer began this year, and is investigating the most effective method of detecting lung cancer in order to reduce deaths from this devastating disease.

As part of my HealthierUS Initiative and my Administration's ongoing commitment to helping the American people live healthier lives, I encourage all Americans to eat right, get more exercise, and take advantage of preventative screening. To learn more about ways to prevent cancer, you can talk to your doctor or contact the NCI's Cancer Information Service at 1-800-4-CANCER or visit its Internet address at http://www.cancer.gov. Through healthy lifestyles, a better understanding of this disease, and new technology, I believe we will achieve a victory over cancer.

In 1938, the Congress of the United States passed a joint resolution (52 Stat. 148; 36 U.S.C. 103) as amended, requesting the President to issue an annual proclamation declaring April as “Cancer Control Month.”

NOW, THEREFORE, I, GEORGE W. BUSH, President of the United States of America, do hereby proclaim April 2003 as Cancer Control Month. I encourage concerned citizens, government agencies, private businesses, nonprofit organizations, and other interested groups to join in activities that will increase awareness of measures all Americans can take to prevent and control cancer.

IN WITNESS WHEREOF, I have hereunto set my hand this twenty-fourth day of March, in the year of our Lord two thousand three, and of the Independence of the United States of America the two hundred and twenty-seventh.

B

[FR Doc. 03-07532

Filed 3-26-03; 8:45 am]

Billing code 3195-01-P